DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Burlington Northern and Santa Fe Railway Company

[Docket Number FRA-2001-10653]

The Burlington Northern and Santa Fe Railway Company (BNSF) seeks a waiver of compliance from the provisions of the Track Safety Standards, 49 CFR 213.121(b), regarding cracked or broken joint bars in Classes 3 through 5 track.

The BNSF is petitioning for a waiver which would provide relief from cracks which can develop between the outermost bolt holes of a specified six-hole skirted joint bar in use on 115-pound rail. The petitioner states that the cracks develop from spike notches on the skirted portion of the bar and in some cases penetrate the entire bar, producing a complete end failure.

The petitioner states that these six-hole bars which develop cracks between the outermost bolt holes are comparable in strength and stability to their conventional 115-pound, four-hole unskirted joint bars and present no additional safety hazards. BNSF has submitted laboratory test results to support their request for a waiver.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number 2001-10653) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on September 21, 2001.
Grady C. Cothen, Jr.,
Deputy Associate Administrator for Safety Standards and Program Development.

[FR Doc. 01-24244 Filed 9-26-01; 8:45 am]

BILLING CODE 4910-06-P